DEPARTMENT OF THE INTERIOR

National Park Service

Final Environmental Impact Statement/Environmental Impact Report; Creek and Wetland Restoration at Big Lagoon, Muir Beach, Golden Gate National Recreation Area, Marin County, CA, Notice of Availability

SUMMARY: Pursuant to § 102(2)(C) of the National Environmental Policy Act of 1969 (42 U.S.C. 4321-4347), and the Council on Environmental Quality Regulations (40 CFR parts 1500 through 1508), the National Park Service, Department of the Interior, has prepared a Final Environmental Impact Statement and Final Environmental Impact Report (Final EIS/EIR) for the Wetland and Creek Restoration at Big Lagoon. The National Park Service (NPS) and Marin County have prepared the Final EIS/EIR in accordance with the National Environmental Policy Act (NEPA) and the California Environmental Quality Act (CEQA). The Final EIS/EIR analyzes multiple alternatives for ecological restoration, public access improvements, bridge replacement, and fill disposal locations; an “environmentally preferred” alternative is identified.

Background: The project at Big Lagoon would restore a functional, self-sustaining ecosystem, including wetland, riparian, and aquatic components. This restoration project would re-create habitat for sustainable populations of special-status species, reduce flooding on Pacific Way, and provide a compatible visitor experience. This project is needed to address the extensive loss of natural function for channel conveyance, sediment transport, channel stability, and diminished habitat for federally endangered coho and federally threatened steelhead; the increased flooding on Pacific Way; and the critical need for sustainable habitat for the California red-legged frog. With many of the impacts resulting from facilities necessary to accommodate public and residential access, access is needed in a manner that is compatible with ecosystem function. A successful project would meet the following goals:

• Restore a functional, self-sustaining ecosystem, including wetland, aquatic and riparian components.

• Develop a restoration design that (1) functions in the context of the watershed and other pertinent regional boundaries, and (2) identifies and, to the extent possible, mitigates factors that reduce the site's full restoration potential.

• Consistent with restoring a functional ecosystem, re-create and maintain habitat adequate to support sustainable populations of special status species.

• Reduce flooding on Pacific Way and in the Muir Beach community caused by human modifications to the ecosystem, and work with Marin County to ensure that vehicle access is provided to the Muir Beach community.

• Provide a visitor experience, public access, links to key locations, and resource interpretation that are compatible with the ecosystem restoration and historic preservation.

• Work with the Federated Indians of Graton Rancheria to incorporate cultural values and indigenous archaeological sites resources into the restoration design, visitor experience, and site stewardship.

• Provide opportunities for public education and community-based restoration, including engaging local and broader communities in restoration planning and site stewardship.

• Coordinate with local transportation planning efforts to identify project features that are compatible with transportation improvements and consistent with the ecosystem restoration.

Range of Alternatives Considered: The Final EIS/EIR evaluates three alternatives for ecological restoration, six alternatives for public access, and four alternatives for a new Pacific Way Bridge and road. The “agency preferred” alternative consists of the Creek Restoration Alternative, 175 Cars Rotated Parallel to Pacific Way Public Access Alternative, and the 250 foot-long Bridge with Highest Road Bridge Alternative. Below is a topical summary of the alternatives under consideration:

Ecological Restoration alternatives include: The No Action alternative would leave Redwood Creek in its current alignment and would not propose any large-scale physical modifications to the site. The Creek Restoration alternative would involve relocating approximately 2,000 linear feet of Redwood Creek to the topographically lowest portion of the valley, while maintaining a habitat mix similar to current conditions; the Creek and Small Lagoon Restoration alternative would combine riparian restoration components with restoration of open water and wetland habitats by creating two open-water lagoons, one on either side of the new channel; and the Large Lagoon Restoration alternative would create a periodically brackish open-water habitat similar to historic (1853) conditions, modified to reflect existing constraints of Pacific Way and private property by creating a large lagoon with fringing wetlands extending to the valley's edge just landward of Muir Beach.

Public Access alternatives include: The No Action alternative would retain the 175 Cars at Beach in its current configuration. The 50 Cars at Beach alternative would construct a 50-space parking lot at the beach at the site of the existing parking lot; the 145 Cars at Beach alternative would retain the same footprint as the existing parking lot, but the lower 90 feet would be removed to accommodate a maximum of 145 vehicles; 175 Cars at Beach alternative would accommodate a maximum of 175 vehicles, the same number as the existing parking lot. The lot would be about the same size as the existing parking lot, but it would be pulled back from the creek further than the minimum 90 feet to create a minimum distance of about 180 feet from the creek. It would also expand further northward into existing riparian habitat; the 175 Cars Rotated Parallel to Pacific Way alternative would have the same 175-car capacity but rotate the parking lot parallel to Pacific Way; the 200 Cars at Beach alternative proposes the largest parking lot of all the alternatives with a maximum of 200 vehicle spaces located in the same area as the existing parking lot; and the 118 Cars at Alder Grove alternative would designate most parking away from the beach in an area known as the Alder Grove but would provide 14 Disabled-Accessible Parking Spaces and a drop-off turnaround at the beach.

Bridge alternatives include: The No Action alternative would not change Pacific Way Road or the bridge. The 50 foot-long Bridge with a Raised Road alternative would free-span the 35 foot-wide channel and have a deck at 16.5 feet NGVD and be raised on the north and south approaches; the 50 foot-long Bridge with a Low Road alternative would free-span the 35 foot-wide channel and have a deck height at approximately 15 feet NGVD but would not be raised on the north and south approaches; the 150 foot-long Bridge with Raised Road alternative would span both the new 35 foot-wide channel and areas of riparian habitat and floodplain on either side of the channel and would be supported by 2 foot-wide piers, placed at approximately 40-foot intervals; and the 250 foot-long Bridge with Highest Road alternative would span the entire available riparian zone and floodplain from the Pelican Inn on the north to the existing bridge on the south and would have the highest deck of all the alternatives, between 16.25 and 18 feet NGVD and be supported by two foot-wide piers, placed at approximately 40-foot intervals.

Scoping And Public Review: Between December 2002 and December 2004, 17 public meetings were held, as well as a variety of site visits and meetings with representatives of various agencies. On December 3, 2002, a Notice of Intent to prepare an EIS was published in the Federal Register beginning the formal scoping phase and identifying goals for the project. Three public scoping meetings were held on October 22, October 29, and November 2, 2002, with a site visit for the public held on November 9, 2002, to solicit input on the project and its potential impacts. Following these meetings, a Big Lagoon Working Group consisting of interested individuals, agencies, and organizations was formed to help develop project alternatives. The working group convened regularly in meetings that were open to the public. In addition, two alternatives workshops were held for the public on September 30 and October 4, 2003. The results of those workshops, as well as a more detailed summary of the scoping process, were distributed in the Alternative Public Workshops Report (2004). Finally, Marin County circulated a Notice of Preparation of an Environmental Impact Report on April 27, 2004, soliciting comments on the specific issues to be included in the scope of CEQA environmental review. All of these activities informed the alternatives formulation process. The Notice of Availability for the Draft EIS/EIR was published December 18, 2006 in the Federal Register and the document was made available for a 75-day public review and comment period. Following release of the Draft EIS/EIR, NPS and Marin County held two public meetings to present the project to interested parties and to answer questions about the project. These meetings were held on January 18 and 31, 2007. NPS and Marin County also conducted a public hearing at the Marin County Planning Commission in San Rafael, California, on February 26, 2007, to receive comments on the draft document.

FOR FURTHER INFORMATION CONTACT: Copies of the Final EIS/EIR will be sent to affected Federal, Tribal, State and local government agencies, to interested parties, and those requesting copies. Paper and digital copies (compact disc) of the Final EIS/EIR will be available at both lead agency offices and at local libraries during normal business hours. The complete document will be available in area libraries, and also posted on the GGNRA's project Web site (http://www.nps.gov/goga) and on NPS's Planning, Environment and Public Comment Web site (http://www.parkplanning.nps.gov/goga). New requests may be sent to: Superintendent, Golden Gate National Recreation Area, Fort Mason, Building 201, San Francisco, CA 94123 (Attn: Creek and Wetland Restoration at Big Lagoon). After release of the Final EIS/EIR, a public meeting will be scheduled (date and other details will be posted on the project Web site). For further information about the project's conservation planning process or logistics of the public meeting, contact Steve Ortega or Carolyn Shoulders, Building 201 Fort Mason, San Francisco, CA 94123, Phone: (415) 561-4841.

Decision Process: The NPS will prepare a Record of Decision no sooner than 30 days following publication by the Environmental Protection Agency of their notice of filing of the Final EIS in the Federal Register. As a delegated EIS, the official responsible for final approval is the Pacific West Regional Director, and subsequently the official responsible for project implementation is the General Superintendent, Golden Gate National Recreation Area.

Dated: November 2, 2007.
Jonathan B. Jarvis,
Regional Director, Pacific West Region.

[FR Doc. 07-6103 Filed 12-19-07; 8:45 am]

BILLING CODE 4312-FN-M